NATIONAL ARCHIVES AND RECORDS ADMINISTRATION

Public Meeting on Non-Trial Civil Court Case Files

AGENCY: National Archives and Records Administration (NARA).

ACTION: Notice of public meeting.

SUMMARY: The National Archives and Records Administration (NARA) is holding a public meeting to gather input to help NARA decide how to identify post-1970 non-trial civil cases with sufficient historical value to warrant permanent preservation. Pursuant to the U.S. District Court records schedule issued in 1983, the National Archives preserves all civil cases prior to 1970 and all cases filed after January 1, 1970 that went to trial. Cases filed after January 1, 1970 that did not reach the trial stage are eligible for disposal twenty years after they are transferred to inactive storage. Trial cases are routinely transferred to the legal custody of the National Archives twenty-five years after closure. No non-trial cases in records center storage have been destroyed. NARA must develop a methodology to review a representative portion of the non-trial case files in order to determine which files should be preserved. The meeting is designed to elicit advice from the public, and the legal, judicial, and historical communities on the review methodology.

DATES: The meeting will be held on Thursday, January 25, 2007, from 9 am to 12 noon. Space is limited, and reservations are required. Please RSVP to the individual named in FOR FURTHER INFORMATION CONTACT by Friday, January 19, 2007.

ADDRESSES: The meeting will be held in the Mecham Conference Center at the Thurgood Marshall Federal Judiciary Building, One Columbus Circle, NE, Washington, DC.

FOR FURTHER INFORMATION CONTACT: Marvin H. Kabakoff, 781-663-0129, marvin.kabakoff@nara.gov.

Dated: December 21, 2006.
Thomas E. Mills,
Assistant Archivist for Regional Records Services.

[FR Doc. E6-22249 Filed 12-27-06; 8:45 am]

BILLING CODE 7515-01-P